DEPARTMENT OF AGRICULTURE

Animal and Plant Health Inspection Service

7 CFR Part 301

[Docket No. APHIS-2006-0170]

Witchweed Quarantine Regulations; Regulated Areas in North Carolina and South Carolina

AGENCY: Animal and Plant Health Inspection Service, USDA.

ACTION: Final rule.

SUMMARY: We are adopting as a final rule, with one change, an interim rule that amended the witchweed regulations by adding or removing areas in North Carolina and South Carolina from the list of regulated areas. Based on information provided by the State of South Carolina, this final rule removes one farm from the list of suppressive areas that appeared in the interim rule. This action is necessary to remove restrictions that are no longer necessary on the interstate movement of regulated articles from areas where witchweed has been eradicated.

DATES: Effective Date: August 10, 2007.

FOR FURTHER INFORMATION CONTACT: Dr. Alan V. Tasker, Noxious Weeds Program Manager, Invasive Species and Pest Management, PPQ, APHIS, 4700 River Road Unit 134, Riverdale, MD 20737-1231; (301) 734-5708.

SUPPLEMENTARY INFORMATION:

Background

Witchweed (Striga spp.) is a parasitic plant that attacks some of the most important crops in the United States (corn, sorghum, sugar cane, and rice), feeding off the roots of its host and causing degeneration. Within the United States, witchweed is only found in parts of North Carolina and South Carolina.

The witchweed quarantine and regulations, contained in 7 CFR 301.80 through 301.80-10 (referred to below as the regulations), quarantine affected areas within the States of North Carolina and South Carolina and restrict the interstate movement of certain articles from regulated areas in those States for the purpose of preventing the spread of witchweed.

In an interim rule ¹ effective February 15, 2007, and published in the Federal Register on February 22, 2007 (72 FR 7923-7926, Docket No. APHIS-2006-0170), we amended the list of regulated areas in § 301.80-2a by removing areas in Cumberland, Pender, Robeson, and Sampson Counties, NC, and Horry and Marion Counties, SC, from the list of suppressive areas. In addition to removing these areas from the list of regulated areas in § 301.80-2a, we also added several areas to the list and revised the descriptions of several areas on the list.

¹ To view the interim rule, go to http://www.regulations.gov/fdmspublic/component/main?main=DocketDetail&d=APHIS-2006-0170.

We solicited comments on the interim rule for 60 days ending on April 23, 2007. We did not receive any comments. However, subsequent to the publication of the interim rule, agricultural officials with the State of South Carolina informed us that one farm in Marion County, SC, where witchweed had been eradicated was erroneously listed in the interim rule as a suppressive area. Therefore, in this final rule, we are removing that farm from the list of regulated areas.

Therefore, for the reasons given in the interim rule and this document, we are adopting the interim rule as a final rule, with the change discussed in this document.

This final rule also affirms the information contained in the interim rule concerning Executive Order 12866 and the Regulatory Flexibility Act, Executive Orders 12372 and 12988, and the Paperwork Reduction Act.

Effective Date

Pursuant to the administrative procedure provisions in 5 U.S.C. 553, we find good cause for making this rule effective less than 30 days after publication in the Federal Register. The interim rule adopted as final by this rule became effective on February 15, 2007. This rule amends the description of the regulated areas to remove a farm where witchweed has been eradicated. Immediate action is warranted to relieve restrictions on the interstate movement of regulated articles from that farm.

List of Subjects in 7 CFR Part 301

Agricultural commodities, Plant diseases and pests, Quarantine, Reporting and recordkeeping requirements, Transportation.

Accordingly, the interim rule amending 7 CFR part 301 that was published at 72 FR 7923-7926 on February 22, 2007, is adopted as a final rule with the following change:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

§ 301.80-2a [Amended]

2. In § 301.80-2a, under the heading “South Carolina”, the list of suppressive areas is amended by removing, under Marion County, the entry “The Porter, Hubert, farm located on the south side of an unpaved road known as Bubba Road, 1.3 miles south from its intersection with State Highway 76.”

Done in Washington, DC, this 6th day of August 2007.
Cindy Smith,
Acting Administrator, Animal and Plant Health Inspection Service.

[FR Doc. E7-15711 Filed 8-9-07; 8:45 am]

BILLING CODE 3410-34-P